DEPARTMENT OF AGRICULTURE

Natural Resources Conservation Service

Notice of Proposed Change to Section IV of the Field Office Technical Guide (FOTG) of the Natural Resources Conservation Service in Louisiana

AGENCY: Natural Resources Conservation Service (NRCS), U.S. Department of Agriculture.

ACTION: Notice of availability of proposed changes in Section IV of the FOTG of the NRCS in Louisiana for review and comment.

SUMMARY: It is the intention of the NRCS in Louisiana to issue revised conservation practice standards in Section IV of the FOTG for the following practices: Nutrient Management (code 590), and Waste Utilization (code 633).

DATES: Comments will be received on or before March 23, 2000.

FOR FURTHER INFORMATION CONTACT: Inquire in writing to Donald W. Gohmert, State Conservationist, Natural Resources Conservation Service (NRCS), 3737 Government Street, Alexandria, Louisiana 71302. Copies of the practice standards will be made available upon written request.

SUPPLEMENTARY INFORMATION: Section 343 of the Federal Agriculture Improvement and Reform Act of 1996 states that revisions made after enactment of the law to NRCS State Technical Guides used to carry out highly erodible land wetland provisions of the law shall be made available for public review and comment. For the next 30 days the NRCS in Louisiana will receive comments relative to the proposed changes. Following that period a determination will be made by the NRCS in Louisiana regarding disposition of those comments and a final determination of change will be made.

Dated: February 7, 2000.
Donald W. Gohmert,
State Conservationist, Alexandria, Louisiana 71302.

[FR Doc. 00-4112 Filed 2-18-00; 8:45 am]

BILLING CODE 3410-16-P